DEPARTMENT OF TRANSPORTATION

Federal Aviation Administration

14 CFR Part 39

[Docket No. FAA-2022-1311; Project Identifier MCAI-2022-00624-E]

RIN 2120-AA64

Airworthiness Directives; Safran Helicopter Engines, S.A. (Type Certificate Previously Held by Turbomeca, S.A.) Turboshaft Engines

AGENCY: Federal Aviation Administration (FAA), DOT.

ACTION: Notice of proposed rulemaking (NPRM).

SUMMARY: The FAA proposes to supersede Airworthiness Directive (AD) 2021-08-02, which applies to all Safran Helicopter Engines, S.A. (Safran) Arriel 2D and Arriel 2E model turboshaft engines. AD 2021-08-02 requires replacing certain critical parts before reaching their published in-service life limits, performing scheduled maintenance tasks before reaching their published periodicity, and performing unscheduled maintenance tasks when the engine meets certain conditions. Since the FAA issued AD 2021-08-02, Safran has revised the airworthiness limitation section (ALS) of the existing maintenance and overhaul manuals, introducing new and more restrictive instructions and maintenance tasks. This proposed AD would require revisions to the ALS of the operator's existing approved aircraft maintenance program (AMP), as applicable, as specified in a European Union Aviation Safety Agency (EASA) AD, which is proposed for incorporation by reference (IBR). The FAA is proposing this AD to address the unsafe condition on these products.

DATES: The FAA must receive comments on this proposed AD by December 15, 2022.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1311; or in person at Docket Operations between 9 a.m. and 5 p.m., Monday through Friday, except Federal holidays. The AD docket contains this NPRM, the mandatory continuing airworthiness information (MCAI), any comments received, and other information. The street address for Docket Operations is listed above.

Material Incorporated by Reference:

• For material identified in this NPRM, contact EASA, Konrad-Adenauer-Ufer 3, 50668 Cologne, Germany; phone: +49 221 8999 000; email: ADs@easa.europa.eu. You may find this material on the EASA website at ad.easa.europa.eu.

• You may view this material at the FAA, Airworthiness Products Section, Operational Safety Branch, 1200 District Avenue, Burlington, MA 01803. For information on the availability of this material at the FAA, call (817) 222-5110.

FOR FURTHER INFORMATION CONTACT: Kevin Clark, Aviation Safety Engineer, ECO Branch, FAA, 1200 District Avenue, Burlington, MA 01803; phone: (781) 238-7088; email: kevin.m.clark@faa.gov.

SUPPLEMENTARY INFORMATION:

Comments Invited

The FAA invites you to send any written relevant data, views, or arguments about this proposal. Send your comments to an address listed under ADDRESSES. Include “Docket No. FAA-2022-1311; Project Identifier MCAI-2022-00624-E” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact we receive about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kevin Clark, Aviation Safety Engineer, ECO Branch, FAA, 1200 District Avenue, Burlington, MA 01803. Any commentary that the FAA receives which is not specifically designated as CBI will be placed in the public docket for this rulemaking.

Background

The FAA issued AD 2021-08-02, Amendment 39-21496 (86 FR 26651, May 17, 2021) (AD 2021-08-02), for all Safran Arriel 2D and Arriel 2E model turboshaft engines. AD 2021-08-02 was prompted by the manufacturer revising the maintenance and overhaul manuals to introduce new or more restrictive airworthiness limitations and maintenance tasks. AD 2021-08-02 requires replacing certain critical parts before reaching their published in-service life limits, performing scheduled maintenance tasks before reaching their published periodicity, and performing unscheduled maintenance tasks when the engine meets certain conditions. As a terminating action, AD 2021-08-02 requires operators to revise the ALS of their existing approved AMP by incorporating the revised airworthiness limitations and maintenance tasks. The FAA issued AD 2021-08-02 to prevent failure of the engine.

Actions Since AD 2021-08-02 Was Issued

Since the FAA issued AD 2021-08-02, EASA, which is the Technical Agent for the Member States of the European Union, issued EASA AD 2022-0083, dated May 11, 2022 (EASA AD 2022-0083), which supersedes EASA AD 2018-0273, dated December 13, 2018 (EASA AD 2018-0273). EASA AD 2022-0083 states that the manufacturer published a revised ALS introducing new and more restrictive tasks and limitations. These new or more restrictive airworthiness limitations and maintenance tasks include initial and repetitive inspections for clogging of the power turbine air pressurization pipe. The FAA is proposing this AD to prevent failure of the engine. This unsafe condition, if not addressed, could result in uncontained release of a critical part, damage to the engine, and damage to the helicopter. See EASA AD 2022-0083 for additional background information.

Related Service Information Under 1 CFR Part 51

The FAA reviewed EASA AD 2022-0083. EASA AD 2022-0083 specifies instructions for accomplishing the actions specified in the applicable ALS, including performing maintenance tasks, replacing life-limited parts, and revising the existing approved AMP by incorporating the limitations, tasks, and associated thresholds and intervals described in the ALS. This material is reasonably available because the interested parties have access to it through their normal course of business or by the means identified in ADDRESSES.

Other Related Service Information

The FAA reviewed TASK 05-10-01-200-801-A01, Values of Authorized In-Service Life Limits—Airworthiness Limitations, of the Safran Helicopter Engines Arriel 2 Maintenance Manual, dated December 30, 2021, and TASK 05-10-10-200-801-A01, Airworthiness Limitations—Temporary Update No. 05-3—Tables of Mandatory Maintenance Tasks, of the Safran Helicopter Engines Arriel 2 Maintenance Manual, dated April 15, 2022.

The FAA reviewed Section 05-10-00, Airworthiness Limitations, of Chapter 05, Airworthiness Limitations-Frequencies-Inspections, of the Safran Helicopter Engines Arriel 2D and Arriel 2E Overhaul Manuals, Volume 1, No. X 292 R1 500 2, Update No. 23, dated December 30, 2021.

FAA's Determination

These products have been approved by the aviation authority of another country, and are approved for operation in the United States. Pursuant to the FAA's bilateral agreement with the State of Design Authority, it has notified the FAA of the unsafe condition described in the MCAI described above. The FAA is issuing this NPRM after determining that the unsafe condition described previously is likely to exist or develop in other products of the same type design.

Proposed AD Requirements in This NPRM

This proposed AD would retain none of the requirements of AD 2021-08-02. This proposed AD would require accomplishing the actions specified in EASA AD 2022-0083, described previously, except as discussed under “Differences Between this Proposed AD and the EASA AD.” An owner/operator (pilot) holding at least at least a private pilot certificate may incorporate the actions and associated thresholds and intervals, including life limits and maintenance tasks, into existing approved maintenance or inspection program as applicable, and performance of this incorporation must be entered into the aircraft records showing compliance with this AD in accordance with 14 CFR 43.9(a) and 14 CFR 91.417(a)(2)(v). The record must be maintained as required by 14 CFR 91.417, 121.380, or 135.439. This is an exception to the FAA's standard maintenance regulations.

Explanation of Required Compliance Information

In the FAA's ongoing efforts to improve the efficiency of the AD process, the FAA developed a process to use some civil aviation authority (CAA) ADs as the primary source of information for compliance with requirements for corresponding FAA ADs. The FAA has since coordinated with other manufacturers and CAAs to use this process. As a result, the FAA proposes to incorporate by reference EASA AD 2022-0083 in the FAA final rule. This proposed AD would, therefore, require compliance with EASA AD 2022-0083 in its entirety through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in EASA AD 2022-0083. Service information required by the EASA AD for compliance will be available at regulations.gov under Docket No. FAA-2022-1311 after the FAA final rule is published.

Differences Between This Proposed AD and the EASA AD

EASA AD 2022-0083 applies to Arriel 2D, 2E, 2H, 2L2, and 2N model turboshaft engines, whereas this proposed AD would only apply to Arriel 2D and Arriel 2E model turboshaft engines. Arriel 2H, 2L2, and 2N engines are not U.S. type certificated.

EASA AD 2022-0083 defines the AMP as the approved Aircraft Maintenance Programme on the basis of which the operator or the owner ensures the continuing airworthiness of each operated engine, this AD defines the AMP as the Aircraft Maintenance Program on the basis of which the operator or the owner ensures the continuing airworthiness of each operated helicopter.

EASA AD 2022-0083 requires revising the approved AMP within 12 months after its effective date, whereas this proposed AD would require incorporating the actions and associated thresholds and intervals, including life limits and maintenance tasks, into the existing approved maintenance or inspection program, as applicable, within 90 days after the effective date of the AD.

This AD does not require compliance with paragraphs (1), (2), (4), or (5) of EASA AD 2022-0083.

Costs of Compliance

The FAA estimates that this AD, if adopted as proposed, would affect 426 engines installed on helicopters of U.S. Registry. The FAA estimates the following costs to comply with this proposed AD:

Estimated Costs
Action | Labor cost | Parts cost | Cost per product | Cost on U.S. operators
Revise the ALS and the operator's existing approved AMP | 1 work-hour × $85 per hour = $85 | $0 | $85 | $36,210

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-08-02, Amendment 39-21496 (86 FR 26651, May 17, 2021); and

b. Adding the following new airworthiness directive:

Safran Helicopter Engines, S.A. (Type Certificate previously held by Turbomeca, S.A.): Docket No. FAA-2022-1311; Project Identifier MCAI-2022-00624-E.

(a) Comments Due Date

The FAA must receive comments on this airworthiness directive (AD) by December 15, 2022.

(b) Affected ADs

This AD replaces AD 2021-08-02, Amendment 39-21496 (86 FR 26651, May 17, 2021) (AD 2021-08-02).

(c) Applicability

This AD applies to all Safran Helicopter Engines, S.A. (Safran) (Type Certificate previously held by Turbomeca, S.A.) Arriel 2D and Arriel 2E model turboshaft engines.

(d) Subject

Joint Aircraft Service Component (JASC) Code 7250, Turbine Section.

(e) Unsafe Condition

This AD was prompted by the manufacturer revising the maintenance and overhaul manuals to introduce new or more restrictive airworthiness limitations and maintenance tasks. The FAA is issuing this AD to prevent failure of the engine. The unsafe condition, if not addressed, could result in uncontained release of a critical part, damage to the engine, and damage to the helicopter.

(f) Compliance

Comply with this AD within the compliance times specified, unless already done.

(g) Required Actions

(1) Except as specified in paragraph (h) and (i) of this AD: Perform all required actions within the compliance times specified in, and in accordance with, European Union Aviation Safety Agency AD 2022-0083, dated May 11, 2022 (EASA AD 2022-0083).

(2) The actions required by paragraph (g)(1) of this AD may be performed by the owner/operator (pilot) holding at least a private pilot certificate and must be entered into the aircraft records showing compliance with this AD in accordance with 14 CFR 43.9(a) and 14 CFR 91.417(a)(2)(v). The record must be maintained as required by 14 CFR 91.417, 121.380, or 135.439.

(h) Exceptions to EASA AD 2022-0083

(1) Where EASA AD 2022-0083 defines the AMP as the approved Aircraft Maintenance Programme on the basis of which the operator or the owner ensures the continuing airworthiness of each operated engine, this AD defines the AMP as the Aircraft Maintenance Program on the basis of which the operator or the owner ensures the continuing airworthiness of each operated helicopter.

(2) Where EASA AD 2022-0083 refers to its effective date, this AD requires using the effective date of this AD.

(3) This AD does not require compliance with paragraph (1) of EASA AD 2022-0083.

(4) This AD does not require compliance with paragraph (2) of EASA AD 2022-0083.

(5) Where paragraph (3) of EASA AD 2022-0083 requires revising the approved aircraft maintenance program (AMP) within 12 months after the effective date of EASA AD 2021-0217, this AD requires incorporating the actions and associated thresholds and intervals, including life limits and maintenance tasks, into the existing approved maintenance or inspection program, as applicable, within 90 days after the effective date of this AD.

(6) This AD does not require compliance with paragraph (4) of EASA AD 2022-0083.

(7) This AD does not require compliance with paragraph (5) of EASA AD 2022-0083.

(8) The “Remarks” section of EASA AD 2022-0083 does not apply to this AD.

(i) Provisions for Alternative Actions, Thresholds, and Intervals, Including Life Limits

After performing the action required by paragraph (g) of this AD, no alternative actions and associated thresholds and intervals, including life limits, are allowed unless they are approved as specified in the provisions of the “Ref. Publications” section of EASA AD 2022-0083.

(j) Alternative Methods of Compliance (AMOCs)

The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k) of this AD and email to: ANE-AD-AMOC@faa.gov. Before using any approved AMOC, notify your appropriate principal inspector, or lacking a principal inspector, the manager of the local flight standards district office/certificate holding district office.

(k) Additional Information

For more information about this AD, contact Kevin Clark, Aviation Safety Engineer, ECO Branch, FAA, 1200 District Avenue, Burlington, MA 01803; phone: (781) 238-7088; email: kevin.m.clark@faa.gov.

(l) Material Incorporated by Reference

(1) The Director of the Federal Register approved the incorporation by reference of the material listed in this paragraph under 5 U.S.C. 552(a) and 1 CFR part 51.

(2) You must use this service information as applicable to do the actions required by this AD, unless the AD specifies otherwise.

(i) European Union Aviation Safety Agency AD 2022-0083, dated May 11, 2022.

(ii) Reserved.

(3) For EASA AD 2022-0083, contact EASA, Konrad-Adenauer-Ufer 3, 50668 Cologne, Germany; phone: +49 221 8999 000; email: ADs@easa.europa.eu. You may find this material on the EASA website at ad.easa.europa.eu.

(4) You may view this service information at FAA, Airworthiness Products Section, Operational Safety Branch, 1200 District Avenue, Burlington, MA 01803. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on October 20, 2022.
Christina Underwood,
Acting Director, Compliance & Airworthiness Division, Aircraft Certification Service.

[FR Doc. 2022-23172 Filed 10-28-22; 8:45 am]

BILLING CODE 4910-13-P